SMALL BUSINESS ADMINISTRATION

[Declaration of Disaster #3513]

State of Ohio (And Contiguous Counties in the State of Indiana #3515)

Butler County and the contiguous Counties of Hamilton, Montgomery, Preble and Warren in the State of Ohio, and Dearborn, Franklin, and Union Counties in the State of Indiana constitute a disaster area due to damages caused by severe storms and flooding that occurred beginning on June 13, 2003 and continuing through June 15, 2003. Applications for loans for physical damage may be filed until the close of business on August 25, 2003 and for economic injury until the close of business on March 29, 2004 at the address listed below or other locally announced locations:

U.S. Small Business Administration, Disaster Area 2 Office, One Baltimore Place, Suite 300, Atlanta, GA 30308.

The interest rates are:

| Percent
For Physical Damage:
Homeowners with credit available elsewhere | 5.625
Homeowners without credit available elsewhere | 2.812
Businesses with credit available elsewhere | 5.906
Businesses and non-profit organizations without credit available elsewhere | 2.953
Others (including non-profit organizations) with credit available elsewhere | 5.500
For economic injury:
Businesses and small agricultural cooperatives without credit available elsewhere | 2.953

The numbers assigned for physical damage are 351311 for the State of Ohio and 351511 for the State of Indiana. For economic injury the numbers are 9W0300 for Ohio and 9W0400 for Indiana.

(Catalog of Federal Domestic Assistance Program Nos. 59002 and 59008)
Dated: June 26, 2003.
Hector V. Barreto,
Administrator.

[FR Doc. 03-17037 Filed 7-3-03; 8:45 am]

BILLING CODE 8025-01-P